DEPARTMENT OF THE TREASURY

Agency Information Collection Activities; Submission for OMB Review; Community Development Financial Institutions Funds Bond Guarantee Program

AGENCY: Departmental Offices, U.S. Department of the Treasury.

ACTION: Notice.

SUMMARY: The Department of the Treasury will submit the following information collection request to the Office of Management and Budget (OMB) for review and clearance in accordance with the Paperwork Reduction Act of 1995, on or after the date of publication of this notice. The public is invited to submit comments on this request.

DATES: Comments must be received on or before December 27, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

Title: Bond Guarantee Program.

OMB Control Number: 1559-0044.

Type of Review: Revision of a currently approved collection.

Description: The purpose of the Community Development Financial Institutions (CDFI) Bond Guarantee Program (BG Program) is to support CDFI lending by providing Guarantees for Bonds issued by Qualified Issuers as part of a Bond Issue for Eligible Community or Economic Development Purposes. The BG Program provides CDFIs with a source of long-term capital and further the mission of the CDFI Fund to increase economic opportunity and promote community development investments for underserved populations and distressed communities in the United States. The CDFI Fund achieves its mission by promoting access to capital and local economic growth by investing in, supporting, and training Community Development Financial Institutions (CDFIs).

In compliance with OMB Circular A-129, the CDFI Bond Guarantee Program will collect all necessary information to manage the portfolio effectively and track progress towards policy goals and statutory and regulatory requirements. The reporting forms are necessary for the Department of the Treasury's review and impact analysis on the current and proposed use of Bond Proceeds in underserved communities and to support the CDFI Fund in proactively managing regulatory compliance. Risk detection and mitigation are crucial activities for the long-term operation and viability of the CDFI Bond Guarantee Program. The Department of the Treasury's authority to collect this information and the specified data collection area and parameters are consistent with the requirements contained in 12 CFR part 1808.101(d)(1)(2) of the CDFI Bond Guarantee Program Interim Rule.

Forms: Qualified Issuer Application, Guarantee Application, Secondary Loan Requirements Certification, Secondary Loan Commitment Form, Financial Condition Monitoring Report, Pledged Loan Monitoring Report, Tertiary Loan Monitoring Report, and Annual Assessment Report.

Affected Public: Businesses or other for-profits, and Not-for-profit institutions.

Estimated Number of Respondents: 90.

Frequency of Response: On occasion for applications, Annually for reports.

Estimated Total Number of Annual Responses: 990.

Estimated Time per Response: 92.222 hours for applications, 1.66-2 hours for reports.

Estimated Total Annual Burden Hours: 9,873.

Authority: 44 U.S.C. 3501 et seq.

Dated: November 18, 2021.
Molly Stasko,
Treasury PRA Clearance Officer.

[FR Doc. 2021-25660 Filed 11-23-21; 8:45 am]

BILLING CODE 4810-70-P